DEPARTMENT OF THE INTERIOR

Fish and Wildlife Service

Notice of Availability

SUMMARY: Pursuant to the National Wildlife Refuge System Improvement Act of 1997, the U.S. Fish and Wildlife Service (Service) has published a Draft Comprehensive Conservation Plan and Environmental Assessment for Ohio River Islands National Wildlife Refuge. This plan describes how the Service intends to manage the refuge over the next 15 years. The refuge is composed of all or part of 21 islands covering over 3,200 acres in four states (West Virginia, Pennsylvania, Kentucky and Ohio).

DATES: A public meeting will be held in each of the four states, with dates, times and addresses to be announced later in local newspapers and on the regional website (http://northeast.fws.gov). The meetings will provide an opportunity for all interested parties to present oral or written testimony on the draft document. The public meetings will be held in late February and early March.

All other comments should be sent by either traditional or electronic mail, no later than 45 days from date of this publication, to: Thomas Bonetti, Planning Team Leader, Northeast Regional Office, 300 Westgate Center Drive, Hadley, MA 01035-9589; or FW5RW_CCP@fws.gov.

ADDRESSES: Additional information or copies of the Draft CCP/EA may be obtained by contacting Thomas Bonetti at the above address, or by contacting Ohio River Islands National Wildlife Refuge, 3004 7th Street, Parkersburg, WV 26102-1811, telephone 304/422-0752.

SUPPLEMENTARY INFORMATION: The draft Comprehensive Conservation Plan and Environmental Assessment fully describes, evaluates, and compares four alternatives for managing the natural resources and public use opportunities for the Ohio River Islands National Wildlife Refuge. One of the alternatives represents the Service's Proposed Action. The four alternatives are:

Alternative A. This alternative is the No Action alternative as required by National Environmental Policy Act regulations. Selection of this alternative would maintain the status quo; there would be no significant changes to current management practices. This alternative serves as the baseline from which to compare the other three alternatives.

Alternative B. This alternative represents the Service's Proposed Action; that is, the alternative currently recommended for approval. Selection of this alternative would include expansion of the Refuge by acquiring remaining islands and embayments, which total to over 8,000 acres. Alternative B would emphasize restoration and reforestation of native bottomland floodplain forest to the Ohio River. Opportunities for all six priority public uses would improve, including an increased importance on environmental education and outreach programs.

Alternative C. This alternative would increase Refuge habitat diversity with increased management of early successional habitat. This habitat would also be more favorable for many game species and associated expanded consumptive recreational uses. Fishing, hunting and trapping allowable by state laws regulations would be offered and promoted. Selection of this alternative would also increase acquisition to over 8,000.

Alternative D. This alternative would manage Refuge lands to provide and maximize undisturbed resting, feeding, and breeding areas for wildlife, especially migratory birds. All visitation would be tightly regulated and confined to certain designated areas. Hunting and fishing would be eliminated from all Refuge lands under this Alternative. Boating and shore use would also be prohibited on Refuge lands. Selection of this alternative would also increase acquisition to over 8,000 acres.

Dated: February 2, 2001.
G. Adam O'Hara,
Acting Regional Director, U.S. Fish and Wildlife Service, Hadley, Massachusetts.

[FR Doc. 01-3692 Filed 2-13-01; 8:45 am]

BILLING CODE 4310-55-P